SMALL BUSINESS ADMINISTRATION

Federal Assistance To Provide Financial Counseling and Other Technical Assistance To Women in the State of Vermont

AGENCY: U.S. Small Business Administration.

ACTION: Amendment to Program Announcement No. OWBO-99-012, as amended by OWBO-2000-015.

SUMMARY: This notice amends the U.S. Small Business Administration's Program Announcement No. OWBO-99-012, as amended by OWBO-2000-015 issued 3/5/02, to correct the project period of the Women's Business Center (WBC) project that will replace a previous project in the State of Vermont. Whereas the Program Announcement states that the replacement WBC is to carry out a project for two years of a 5-year term, the correct project period for the replacement WBC will be for the remainder of the current term which is scheduled to end 6/30/02 and two additional years, 07/01/02-06/30/03 and 07/01/03-06/30/04. The Federal funds available to complete the current year is an amount not to exceed $100,000. The amount of Federal funds to be awarded for each of the two additional years will not exceed $150,000. The recipient must match each annual award at 100%.

A pre-proposal telephone conference will take place on March 12, 2002, at 10:00 a.m. to provide clarification pertaining to the budget period.

FOR FURTHER INFORMATION CONTACT: Sally S. Murrell at (202) 205-6673.

Wilma Goldstein,
Assistant Administrator, Small Business Administration/Office of Women's Business Ownership.

[FR Doc. 02-6071 Filed 3-12-02; 8:45 am]

BILLING CODE 8025-01-P